DEPARTMENT OF AGRICULTURE

Animal and Plant Health Inspection Service

[Docket No. 00-096-1]

National Wildlife Services Advisory Committee; Notice of Intent To Reestablish

AGENCY: Animal and Plant Health Inspection Service, USDA.

ACTION: Notice of intent.

SUMMARY: We are giving notice that the Secretary of Agriculture intends to reestablish the National Wildlife Services Advisory Committee (the Committee) for a 2-year period. The Secretary of Agriculture has determined that the Committee is necessary and in the public interest.

FOR FURTHER INFORMATION CONTACT: Mr. Martin Mendoza, Director, Operational Support Staff, Wildlife Services, APHIS, 4700 River Road Unit 87, Riverdale, MD 20737-1234; (301) 734-7921.

SUPPLEMENTARY INFORMATION: The purpose of the National Wildlife Services Advisory Committee is to advise the Secretary of Agriculture on policies, program issues, and research needed to conduct the Wildlife Services program. The Committee also serves as a public forum enabling those affected by the Wildlife Services program to have a voice in the program's policies.

Done in Washington, DC, this 19th day of July 2001.
Lou Gallegos,
Assistant Secretary for Administration.

[FR Doc. 01-18547 Filed 7-24-01; 8:45 am]

BILLING CODE 3410-34-P